DEPARTMENT OF THE INTERIOR

Bureau of Land Management

[OR-027-1610-DR; HAG 05-0050]

Notice of Availability of Records of Decision for the Andrews Management Unit and Steens Mountain Cooperative Management and Protection Area Resource Management Plans (RMPs)/Environmental Impact Statement (EIS) and the Steens Mountain Wilderness and Wild and Scenic Rivers Plan

AGENCY: Bureau of Land Management, Interior.

ACTION: Notice of availability.

SUMMARY: In accordance with the National Environmental Policy Act (NEPA), the Federal Land Policy and Management Act (FLPMA), the Steens Mountain Cooperative Management and Protection Act of 2000 (Steens Act), and Bureau of Land Management (BLM) policies, the BLM announces the availability of the RMPs/RODs for the Andrews Management Unit (AMU) and Steens Mountain Cooperative Management and Protection Area (CMPA), located primarily in Harney County in southeastern Oregon. The Oregon/Washington State Director approved the RMPs/RODs, which become effective immediately. In accordance with the Steens Act, BLM is also releasing the Final Steens Mountain Wilderness and WSRs Plan for pertinent lands within the CMPA.

ADDRESSES: Copies of the AMU and CMPA RMPs/RODs are available upon request from the BLM Burns District Office, 28910 Highway 20 West, Hines, OR 97738, via e-mail at OR_Burns_RMP@or.blm.gov, or via the Internet at http://www.or.blm.gov/Burns/Planning/AndrewsSteensRMP/RMP.htm.

FOR FURTHER INFORMATION CONTACT: Information about the plans may be obtained by contacting the RMP Project Leader, Gary Foulkes, BLM, Burns District Office, 29810 Highway 20 West, Hines, OR 97738, telephone (541-573-4400), fax (541-573-4411), or e-mail (gfoulkes@or.blm.gov).

SUPPLEMENTARY INFORMATION: The AMU and CMPA RMPs/RODs were developed with broad public participation over a three-year collaborative planning process. These RMPs/RODs address management on approximately 1,649,470 acres of public land consisting of the 1,221,314-acre AMU (public land in the Andrews Resource Area outside the CMPA) and public land in the 428,156-acre CMPA. In addition, 53,436 acres of the Three Rivers Resource Area falling within the CMPA were also included in this planning effort, and the Three Rivers RMP is amended as a result. The AMU and CMPA RMPs/RODs are designed to achieve or maintain desired future conditions determined through the planning process. The RMPs include a series of management actions to meet the desired resource conditions for upland and riparian vegetation, wildlife habitats, cultural and visual resources, livestock grazing and recreation, wilderness, and WSRs, as well as other resources. The Steens Mountain Wilderness and WSRs Plan addresses management issues associated with the 170,084-acre wilderness area and the 105 miles of WSRs in the CMPA.

Management activities in the approved AMU and CMPA RMPs/RODs are essentially the same as those described in Alternative D for each area in the AMU/CMPA Proposed RMP/Final EIS, which was published in August 2004. BLM received five protests on the Proposed RMP/Final EIS and three comment letters on the Steens Mountain Wilderness and WSRs Plan. The protests were resolved without changes to the RMPs. No inconsistencies with State or local plans, policies, or programs were identified during the Governor's consistency review of the Proposed RMP/Final EIS. As a result, except for separating the text for the two plans, only minor editorial modifications were made in the RMPs/RODs. These modifications corrected errors that were noted during review of the Proposed RMP/Final EIS and provide further clarification for some of the decisions. The Comments received on the Steens Mountain Wilderness and WSRs Plan were considered during development of the Final Steens Mountain Wilderness and WSRs Plan.

James G. Kenna,
Associate State Director, Oregon/Washington.

[FR Doc. 05-16949 Filed 8-25-05; 8:45 am]

BILLING CODE 4310-33-M